DEPARTMENT OF LABOR

Employment and Training Administration

[TA-W-63,837; TA-W-63,837A; TA-W-63,837B]

Dolly, Inc., Tipp City, OH; Dolly, Inc., Bentonville, AR; Dolly, Inc., New York, NY; Notice of Termination of Investigation

Pursuant to Section 221 of the Trade Act of 1974, as amended, an investigation was initiated on August 8, 2008 in response to petitions filed by a company official on behalf of workers at Dolly, Inc., Tipp City, Ohio (TA-W-63,837); Bentonville, Arkansas (TA-W-63,837A) and New York, New York (TA-W-63,837B). The workers at the subject firm produced juvenile accessories.

The petitioner has requested that the petitions be withdrawn. Consequently, the investigation has been terminated.

Signed in Washington, DC, this 22nd day of September 2008.
Richard Church,
Certifying Officer, Division of Trade Adjustment Assistance.

[FR Doc. E8-23853 Filed 10-7-08; 8:45 am]

BILLING CODE 4510-FN-P